DEPARTMENT OF THE TREASURY

Internal Revenue Service

26 CFR Part 1

[REG-144615-02]

RIN 1545-BI47

Section 482: Methods To Determine Taxable Income in Connection With a Cost Sharing Arrangement; Correction

AGENCY: Internal Revenue Service (IRS), Treasury.

ACTION: Correction to notice of proposed rulemaking by cross-reference to temporary regulations.

SUMMARY: This document contains corrections to a notice of proposed rulemaking by cross-reference to temporary regulations (REG-144615-02) that was published in the Federal Register on Monday, January 5, 2009 providing further guidance and clarification regarding methods under section 482 to determine taxable income in connection with a cost sharing arrangement in order to address issues that have arisen in administering the current regulations. These temporary regulations potentially affect controlled taxpayers within the meaning of section 482 that enter into cost sharing arrangements as defined therein.

FOR FURTHER INFORMATION CONTACT: Kenneth P. Christman, (202) 435-5265 (not a toll-free number).

SUPPLEMENTARY INFORMATION:

Background

The correction notice that is the subject of this document is under section 482 of the Internal Revenue Code.

Need for Correction

As published, the notice of proposed rulemaking by cross-reference to temporary regulations (REG-144615-02) published January 5, 2009 (74 FR 236), contains errors that may prove to be misleading and are in need of clarification.

Correction of Publication

Accordingly, the publication of the notice of proposed rulemaking by cross-reference to temporary regulations (REG-144615-02), which was the subject of FR Doc. E8-30712, is corrected as follows:

1. On page 236, in the document headings, under the caption ACTION:, the language “Notice of proposed rulemaking by cross-reference to temporary regulations, notice of proposed rulemaking, and notice of public hearing.” is corrected to read “Notice of proposed rulemaking by cross-reference to temporary regulations and notice of public hearing.”.

2. On page 236, column 3, in the preamble, under the paragraph heading “Special Analyses”, last line of the column, the language “sharing agreements. Few small entities” is corrected to read “sharing arrangements. Few small entities”.

3. On page 237, column 1, in the preamble, under the paragraph heading “Special Analyses”, first paragraph of the column, line 2, the language “agreements, as defined by these” is corrected to read “arrangements, as defined by these”.

4. On page 237, column 1, in the preamble, under the paragraph heading “Comments and Public Hearing”, third paragraph, line 1, the language “The rules of 26 CFR 601.601(a)(93)” is corrected to read “The rules of 26 CFR 601.601(a)(3)”.

§ 1.482-2 [Corrected]

5. On page 237, column 3, § 1.482-2(f)(2), the language “Election to apply paragraph (b) of this section to earlier taxable years.” is corrected to read “Election to apply paragraph (b) to earlier taxable years.”.

LaNita Van Dyke,
Chief, Publications and Regulations Branch, Legal Processing Division, Associate Chief Counsel (Procedure and Administration).

[FR Doc. E9-4687 Filed 3-4-09; 8:45 am]

BILLING CODE 4830-01-P